INTERNATIONAL TRADE COMMISSION

[Investigation No. 332-564]

U.S. Trade and Investment With Sub-Saharan Africa: Recent Developments

AGENCY: United States International Trade Commission.

ACTION: Institution of investigation and scheduling of public hearing.

SUMMARY: Following receipt of a request dated October 23, 2017 from the United States Trade Representative (USTR) under the section 332(g) of the Tariff Act of 1930, the U.S. International Trade Commission (Commission) has instituted investigation No. 332-564, U.S. Trade and Investment with Sub-Saharan Africa: Recent Developments, for the purpose of preparing the report requested by the USTR. The Commission has scheduled a public hearing in connection with this investigation for January 23, 2018.

DATES:

January 9, 2018: Deadline for filing requests to appear at the public hearing.

January 11, 2018: Deadline for filing pre-hearing briefs and statements.

January 23, 2018: Public hearing.

January 30, 2018: Deadline for filing post-hearing briefs and statements.

February 6, 2018: Deadline for filing all other written submissions.

April 30, 2018: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leaders Joann Peterson (joann.peterson@usitc.gov or 202-205-3032) or Wen Jin (Jean) Yuan (wenjin.yuan@usitc.gov or 202-205-2383) for information specific to this investigation. For information on the legal aspects of this investigation, contact William Gearhart of the Commission's Office of the General Counsel (william.gearhart@usitc.gov or 202-205-3091). The media should contact Margaret O'Laughlin, Office of External Relations (margaret.olaughlin@usitc.gov or 202-205-1819). Hearing-impaired individuals may obtain information on this matter by contacting the Commission's TDD terminal at 202-205-1810. General information concerning the Commission may also be obtained by accessing its Internet server (https://www.usitc.gov). Persons with mobility impairments who will need special assistance in gaining access to the Commission should contact the Office of the Secretary at 202-205-2000.

Background: The Commission instituted this investigation following receipt of a request from the USTR dated October 23, 2017. The request asked the Commission to provide a report on U.S. trade and investment with sub-Saharan Africa (SSA). It asked that the Commission's report focus primarily on the years 2010-2016, to the extent information is available, but examine longer-term trends since 2000 where appropriate. The request also asked that, to the extent practical, the report provide the most recent 2017 data on U.S. trade flows of goods with SSA and include the following:

1. An overview of the U.S. exports of goods and services to SSA, which should, to the extent information is available:

a. Identify the sectors in which U.S. exports of goods and services to SSA have increased the most, in both value and percentage terms, and indicate the key factors behind this growth.

b. Identify the countries to which U.S. exports of goods and services to SSA have increased the most, in both value and percentage terms, and indicate the key factors behind this growth.

c. Based on a review of available quantitative and qualitative information, identify non-crude petroleum sectors and SSA markets that present the greatest potential for U.S. exports of goods and services and for U.S. foreign direct investment (FDI). Also, identify significant factors impacting U.S. exports and FDI in these sectors, as well as principal third-country suppliers and investors in these sectors and SSA markets.

d. Provide a brief description of the exports of goods and services from U.S. small and medium-sized enterprises (SMEs) to SSA and describe the challenges that U.S. SMEs face when exporting to SSA.

2. An overview of U.S. imports of goods and services from SSA, which should, to the extent information is available:

a. Identify sectors in which SSA exports of goods and services to the United States have increased the most, in both value and percentage terms, and indicate the key factors behind this growth. Data on goods should include both AGOA and non-AGOA imports.

b. Identify the SSA countries from which imports of goods and services to the United States have increased the most, in both value and percentage terms, and indicate the key factors behind this growth. Data on goods should include both AGOA and non-AGOA imports.

c. Based on a review of available quantitative and qualitative information, identify non-crude petroleum sectors and SSA markets that present the greatest potential to increase exports of goods under AGOA to the United States. Identify sectors and SSA markets that present the greatest potential to increase services exports and FDI, and indicate significant factors impacting SSA companies achieving such exports and FDI.

3. Provide profiles of the markets in Cameroon, Cote d'Ivoire, Ethiopia, Kenya, Mauritius, Nigeria, and South Africa that include information on macroeconomic indicators, goods and services trade, and FDI flows in those countries.

4. Provide a summary of recent developments of regional integration efforts in SSA, including progress on the negotiation of Continental Free Trade Agreement.

5. Briefly summarize the AGOA strategies that have been developed by SSA countries.

Public Hearing: A public hearing in connection with this investigation will be held at the U.S. International Trade Commission Building, 500 E Street SW., Washington, DC, beginning at 9:30 a.m. on January 23, 2018. Requests to appear at the hearing should be filed with the Secretary no later than 5:15 p.m., January 9, 2018, in accordance with the requirements in the “written submissions” section below. All pre-hearing briefs and statements should be filed not later than 5:15 p.m., January 11, 2018; and all post-hearing briefs and statements addressing matters raised at the hearing should be filed not later than 5:15 p.m., January 30, 2018. In the event that, as of the close of business on January 9, 2018, no witnesses are scheduled to appear at the hearing, the hearing will be canceled. Any person interested in attending the hearing as an observer or nonparticipant may call the Secretary to the Commission (202-205-2000) after January 9, 2018, for information concerning whether the hearing will be held.

Written Submissions: In lieu of or in addition to participating in the hearing, interested parties are invited to file written submissions concerning this investigation. All written submissions should be addressed to the Secretary, and should be received not later than 5:15 p.m., February 6, 2018. All written submissions must conform to the provisions of section 201.8 of the Commission's Rules of Practice and Procedure (19 CFR 201.8). Section 201.8 and the Commission's Handbook on Filing Procedures https://www.usitc.gov/secretary/documents/handbook_on_filing_procedures.pdf require that interested parties file documents electronically on or before the filing deadline and submit eight (8) true paper copies by 12:00 p.m. eastern time on the next business day. In the event that confidential treatment of a document is requested, interested parties must file, at the same time as the eight paper copies, at least four (4) additional true paper copies in which the confidential business information must be deleted (see the following paragraphs for further information regarding confidential business information). Persons with questions regarding electronic filing should contact the Office of the Secretary, Docket Services Division (202-205-1802).

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In his request letter, the USTR stated that his office intends to make the Commission's report available to the public and asked that the Commission not include any confidential business information or national security information in the report. The Commission will not include any confidential business information in the report that it sends to the USTR or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons. Persons wishing to have a summary of their position included in the report should include a summary with their written submission. The summary may not exceed 500 words, should be in MS Word format or a format that can be easily converted to MS Word, and should not include any confidential business information. The summary will be published as provided if it meets these requirements and is germane to the subject matter of the investigation. The Commission will identify the name of the organization furnishing the summary and will include a link to the Commission's Electronic Document Information System (EDIS) where the full written submission can be found.

By order of the Commission.
Issued: November 16, 2017.
Lisa R. Barton,
Secretary to the Commission.

[FR Doc. 2017-25237 Filed 11-21-17; 8:45 am]

BILLING CODE 7020-02-P